DEPARTMENT OF ENERGY

Federal Energy Regulatory Commission

[Docket No. IC19-5-000]

Commission Information Collection Activities (FERC-500); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-500 (Application for License/Relicense and Exemption for Water Projects with More than 5 Megawatt Capacity).

DATES: Comments on the collection of information are due January 22, 2019.

ADDRESSES: You may submit comments (identified by Docket No. IC19-5-000) by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-500, Application for License/Relicense and Exemption for Water Projects with More than 5 Megawatt Capacity.¹

¹ There is a pending Notice of Proposed Rulemaking in Docket No. RM18-14-000 which proposes to make some changes to FERC-500. This notice does not reflect the proposed changes to FERC-500 due to Docket No. RM18-14.

OMB Control No.: 1902-0058

Abstract: Pursuant to the Federal Power Act, the Commission is authorized to issue licenses and exemptions to citizens of the United States, or to any corporation organized under the laws of United States or any State thereof, or to any State or municipality for the purpose of constructing, operating, and maintaining dams, water conduits, reservoirs, power houses, transmission lines, or other project works necessary or convenient for the development and improvement of navigation and for the development, transmission, and utilization of power across, along, from, or in any of the streams or other bodies of water over which Congress has jurisdiction under its authority to regulate commerce with foreign nations and among the several States, or upon any part of the public lands and reservations of the United States.

FERC-500 is an application (for water projects with more than 5 megawatt capacity) for a hydropower license or exemption. FERC-500 includes certain reporting requirements in 18 CFR 4, 5, 8, 16, 141, 154.15, and 292. Depending on the type of application, it may include project description, schedule, resource allocation, project operation, construction schedule, cost, and financing; and an environmental report. After an application is filed, the Federal agencies with responsibilities under the Federal Power Act (FPA) and other statutes,² the States, Indian tribes, and other participants have opportunities to request additional studies and provide comments and recommendations.

² Statutes include the Electric Consumers Protection Act (ECPA), the National Environmental Policy Act (NEPA), the Endangered Species Act, the Federal Water Pollution Control Amendments of 1972 (the Clean Water Act), and the Coastal Zone Management Act.

Submittal of the FERC-500 application is necessary to fulfill the requirements of the FPA in order for the Commission to make the required finding that the proposal is economically, technically, and environmentally sound, and is best adapted to a comprehensive plan for improving/developing a waterway or waterways.

Type of Respondent: Applicants for major hydropower licenses or exemptions greater than 5 MW

Estimate of Annual Burden ³: Applicants for licenses are required to include an estimate of their cost to prepare the license application, which would include nearly all of the reporting requirements in FERC-500.⁴ Because the requirements for an exemption application are largely the same as that of a license application, the license application costs are a good estimate of the exemption application costs and of the overall burden of preparing license and exemption applications for projects greater than 5 MW.

³ “Burden” is the total time, effort, or financial resources expended by persons to generate, maintain, retain, or disclose or provide information to or for a Federal agency. For further explanation of what is included in the information collection burden, refer to Title 5 Code of Federal Regulations 1320.3.

⁴ Exceptions would be 18 CFR 2.19, 4.201, 4.202, 4.303, 4.35, 8.1, 8.2, 16.19, 141.15, and 292.208, none of which directly relate to preparation of a license or exemption application for a project greater than 5 MW.

To estimate the burden, we used actual data reported by applicants for proposed projects greater than 5 MW filed in fiscal years (FY) 2016 through 2018, and averaged the reported license application costs. The results are presented in the table below.

Fiscal year | FY 2016 | FY 2017 | FY 2018
Number of applications (Responses) | 14 | 8 | 6
Average Cost per Response | $3,571,786 | $3,735,714 | $2,293,413
Total Burden Cost for All Applications (Responses) | 50,005,004 | 29,885,712 | 13,760,478

The average burden cost per application over the period FY 2016 through FY 2018 was approximately $3,344,686 ⁵. We estimate a cost (salary plus benefits) of $79/hour.⁶ Using this hourly cost estimate, the average burden for each application filed from FY 2016 to FY 2018 is 42,338 hours.

⁵ $93,651,194 (Total burden cost from FY 2016-2018) ÷ 28 (total number of applications received from FY 2016-2018) = $3,344,686.

⁶ FERC staff estimates that industry is similarly situated in terms of the hourly cost for salary plus benefits. Therefore, we are using the FERC FY 2018 hourly cost (salary plus benefits) of $79/hour.

FERC-500
Number of respondents | Annual number of responses per respondent | Total number of responses | Average burden hours & cost ($) per response | Total annual burden hours & total annual cos ($)t | Cost per respondent ($)
(1) | (2) | (1) * (2) = (3) | (4) | (3) * (4) = (5) | (5) ÷ (1)
9 | 1 | 9 | 42,337.79 hrs.; $3,344,685.50 | 381,040.11 hrs.; $30,102,169.50 | $3,344,685.50

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: November 14, 2018.
Kimberly D. Bose,
Secretary.

[FR Doc. 2018-25288 Filed 11-19-18; 8:45 am]

BILLING CODE 6717-01-P